DEPARTMENT OF DEFENSE

Department of the Air Force

[USAF-2006-0016]

Privacy Act of 1974; System of Records

Correction

In notice document 06-9621 beginning on page 71535 in the issue of Monday, December 11, 2006, make the following correction:

On page 71536, in the first column, after the heading “EXEMPTIONS CLAIMED FOR THIS SYSTEM:”, the heading “F036 AETF I” should read “F036 AETC I”.

[FR Doc. C6-9621 Filed 12-19-06; 8:45 am]

BILLING CODE 1505-01-D